DEPARTMENT OF ENERGY

Federal Energy Regulatory Commission

Combined Notice of Filings

Take notice that the Commission has received the following Natural Gas Pipeline Rate and Refund Report filings:

Filings Instituting Proceedings

Docket Numbers: RP14-249-000.

Applicants: WBI Energy Transmission, Inc.

Description: 2013 Revised Non-conforming Negotiated Rate SA—FT-513, 1056, 1109 to be effective 12/1/2013.

Filed Date: 12/3/13.

Accession Number: 20131203-5048.

Comments Due: 5 p.m. ET 12/16/13.

Docket Numbers: RP14-250-000.

Applicants: Stingray Pipeline Company, L.L.C.

Description: Revise System Map to be effective 1/1/2014.

Filed Date: 12/4/13.

Accession Number: 20131204-5099.

Comments Due: 5 p.m. ET 12/16/13.

Docket Numbers: RP14-251-000.

Applicants: Saltville Gas Storage Company L.L.C.

Description: Saltville Gas Storage Company L.L.C., Petition for Approval of Stipulation and Agreement.

Filed Date: 12/4/13.

Accession Number: 20131204-5130.

Comments Due: 5 p.m. ET 12/16/13.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated December 05, 2013.
Nathaniel J. Davis, Sr.,
Deputy Secretary.

[FR Doc. 2013-29928 Filed 12-16-13; 8:45 am]

BILLING CODE 6717-01-P